Proclamation 7609 of October 11, 2002

National School Lunch Week, 2002

By the President of the United States of America

A Proclamation

The future success of our Nation depends on our children's healthy development. Since 1946, the National School Lunch Program (NSLP) has made important contributions to the well-being of our school children. As part of the NSLP, more than 96,000 schools and residential childcare institutions serve more than 27 million children each day. In addition to providing young people with nutritious meals, this program supports the academic mission of our schools and helps to ensure that all our Nation's children reach their full potential.

To avoid the formation of poor eating habits, which are generally established during childhood, we must encourage positive choices that fulfill dietary recommendations. It is critical that our children eat sufficient amounts of fruits and vegetables, reduce fat in their diets, and consume essential nutrients in an overall diet with appropriate calories. By making modest improvements to their diets and increasing physical activities, children can dramatically improve their overall health.

To help meet this goal, the Department of Agriculture launched the School Meals Initiative for Healthy Children. This plan empowers schools to serve “kid-friendly” meals that meet the recommendations defined in the Dietary Guidelines for Americans and the Food Guide Pyramid. Through Team Nutrition, a comprehensive, behavior-based plan, the USDA assists schools by supporting food service personnel with important training. New recipes are now created by teams of dietitians and chefs, and then taste-tested by children. As a result, more children are enjoying lunches that are lower in fat, saturated fat, and sodium.

To motivate children to make sound choices, Team Nutrition also educates them about the benefits of healthy eating. State and local governments are supplementing these programs through innovative partnerships with educators, school administrators, community organizations, the food industry, and others. Through these cooperative efforts we are addressing solutions to health problems, such as the increasing incidence of childhood obesity, and we are enhancing access to nutrition programs for needy children.

During National School Lunch Week, we recognize the hard work and dedication of the thousands of food service professionals who plan and prepare meals, and provide vital nutritional education to our young people.

In recognition of the contributions of the National School Lunch Program to the health, education, and well-being of our Nation's children, the Congress, by joint resolution of October 9, 1962 (Public Law 87-780), as amended, has designated the week beginning on the second Sunday in October of each year as “National School Lunch Week” and has requested the President to issue a proclamation in observance of this week.

NOW, THEREFORE, I, GEORGE W. BUSH, President of the United States of America, do hereby proclaim October 13 through October 19, 2002, as National School Lunch Week. I call upon all Americans to join the dedicated individuals who administer the National School Lunch Program at the State and local levels in appropriate activities and celebrations that promote all programs that support the health and well-being of our Nation's children.

IN WITNESS WHEREOF, I have hereunto set my hand this eleventh day of October, in the year of our Lord two thousand two, and of the Independence of the United States of America the two hundred and twenty-seventh.

B

[FR Doc. 02-26629

Filed 10-16-02; 8:45 am]

Billing code 3195-01-P